DEPARTMENT OF ENERGY

Federal Energy Regulatory Commission

Combined Notice of Filings #1

Take notice that the Commission received the following electric corporate filings:

Docket Numbers: EC20-5-000.

Applicants: 83WI 8me, LLC, Blue Canyon Windpower LLC, Burgess Biopower LLC, Dempsey Ridge Wind Farm, LLC, EcoGrove Wind, LLC, Flat Water Wind Farm, LLC, Lily Solar, LLC, Lily Solar Lessee, LLC, Persimmon Creek Wind Farm 1, LLC, Red Hills Wind Project, L.L.C., Roth Rock Wind Farm, LLC, Tatanka Wind Power, LLC, TPW Petersburg, LLC, X-elio Energy SC York, LLC, Brookfield Renewable Power Ltd., Longview Power, LLC, Nevada Solar One, LLC.

Description: Application for Authorization Under Section 203 of the Federal Power Act, et al. of 83WI 8me, LLC, et al.

Filed Date: 10/4/19.

Accession Number: 20191004-5047.

Comments Due: 5 p.m. ET 10/25/19.

Docket Numbers: EC20-6-000.

Applicants: Tenaska Pennsylvania Partners, LLC.

Description: Application for Authorization Under Section 203 of the Federal Power Act, et al. of Tenaska Pennsylvania Partners, LLC.

Filed Date: 10/4/19.

Accession Number: 20191004-5084.

Comments Due: 5 p.m. ET 10/25/19.

Take notice that the Commission received the following exempt wholesale generator filings:

Docket Numbers: EG20-2-000.

Applicants: IP Athos, LLC.

Description: Notice of Self-Certification of Exempt Wholesale Generator Status of IP Athos, LLC.

Filed Date: 10/4/19.

Accession Number: 20191004-5022.

Comments Due: 5 p.m. ET 10/25/19.

Docket Numbers: EG20-3-000.

Applicants: IP Athos II, LLC.

Description: Notice of Self-Certification of Exempt Wholesale Generator Status of IP Athos II, LLC.

Filed Date: 10/4/19.

Accession Number: 20191004-5026.

Comments Due: 5 p.m. ET 10/25/19.

Docket Numbers: EG20-4-000.

Applicants: KeyCon Operating, LLC, Keystone Operating, LLC, Conemaugh Operating, LLC.

Description: Notice of Self-Certification of Exempt Wholesale Generator Status of KeyCon Operating, LLC, et. al.

Filed Date: 10/4/19.

Accession Number: 20191004-5088.

Comments Due: 5 p.m. ET 10/25/19.

Docket Numbers: EG20-5-000.

Applicants: KeyCon Operating, LLC, Keystone Operating, LLC, Conemaugh Operating, LLC.

Description: Notice of Self-Certification of Exempt Wholesale Generator Status of KeyCon Operating, LLC, et. al.

Filed Date: 10/4/19.

Accession Number: 20191004-5088.

Comments Due: 5 p.m. ET 10/25/19.

Docket Numbers: EG20-6-000.

Applicants: KeyCon Operating, LLC, Keystone Operating, LLC, Conemaugh Operating, LLC.

Description: Notice of Self-Certification of Exempt Wholesale Generator Status of KeyCon Operating, LLC, et. al.

Filed Date: 10/4/19.

Accession Number: 20191004-5088.

Comments Due: 5 p.m. ET 10/25/19.

Take notice that the Commission received the following electric rate filings:

Docket Numbers: ER10-2822-015; ER16-1250-007; ER11-2112-009; ER10-2828-005; ER16-2285-003; ER10-3002-005; ER10-3004-006; ER10-3010-005; ER12-96-007; ER10-3031-005.

Applicants: Atlantic Renewable Projects II LLC, Avangrid Renewables, LLC, Blue Creek Wind Farm LLC, Casselman Windpower LLC, Desert Wind Farm LLC, Locust Ridge Wind Farm, LLC, Locust Ridge II, LLC, Providence Heights Wind, LLC, South Chestnut LLC, Streator-Cayuga Ridge Wind Power LLC.

Description: Notice of Change in Status of the Avangrid MBR Sellers.

Filed Date: 10/3/19.

Accession Number: 20191003-5204.

Comments Due: 5 p.m. ET 10/24/19.

Docket Numbers: ER16-1887-001.

Applicants: Apple Energy LLC.

Description: Notice of Non-Material Change in Status of Apple Energy LLC.

Filed Date: 10/3/19.

Accession Number: 20191003-5207.

Comments Due: 5 p.m. ET 10/24/19.

Docket Numbers: ER19-2647-001.

Applicants: Florida Power & Light Company.

Description: Tariff Amendment: Amendment to FPL Revised OATT to Reflect the Dissolution of the FRCC as NERC RE to be effective 9/1/2019.

Filed Date: 10/4/19.

Accession Number: 20191004-5146.

Comments Due: 5 p.m. ET 10/25/19.

Docket Numbers: ER19-2707-001.

Applicants: Poseidon Wind, LLC.

Description: Tariff Amendment: Errata to Application for Market-Based Rate Authorization to be effective 10/29/2019.

Filed Date: 10/3/19.

Accession Number: 20191003-5173.

Comments Due: 5 p.m. ET 10/24/19.

Docket Numbers: ER20-36-000.

Applicants: Midcontinent Independent System Operator, Inc.

Description: § 205(d) Rate Filing: 2019-10-03_PJM-MISO JOA Enhancements to Coordinated System Planning Process to be effective 12/3/2019.

Filed Date: 10/3/19.

Accession Number: 20191003-5172.

Comments Due: 5 p.m. ET 10/24/19.

Docket Numbers: ER20-37-000.

Applicants: Niagara Mohawk Power Corporation, New York Independent System Operator, Inc.

Description: § 205(d) Rate Filing: NMPC & Invenergy Wind re: Engineering & Procurement Agreement SA 2477 to be effective 8/12/2019.

Filed Date: 10/4/19.

Accession Number: 20191004-5045.

Comments Due: 5 p.m. ET 10/25/19.

Docket Numbers: ER20-38-000.

Applicants: Southern California Edison Company.

Description: § 205(d) Rate Filing: Service Agreement for Wholesale Distibution Service, SA No. 1086, P&G Cogen2 to be effective 10/7/2019.

Filed Date: 10/4/19.

Accession Number: 20191004-5113.

Comments Due: 5 p.m. ET 10/25/19.

Docket Numbers: ER20-39-000.

Applicants: Southern California Edison Company.

Description: § 205(d) Rate Filing: Letter Agreement with City of Pasadena, Rate Schedule FERC No. 524 to be effective 10/7/2019.

Filed Date: 10/4/19.

Accession Number: 20191004-5122.

Comments Due: 5 p.m. ET 10/25/19.

Docket Numbers: ER20-40-000.

Applicants: Southwest Power Pool, Inc.

Description: § 205(d) Rate Filing: Basin Electric Power Cooperative Contract Services Agreement Amendment to be effective 12/3/2019.

Filed Date: 10/4/19.

Accession Number: 20191004-5123.

Comments Due: 5 p.m. ET 10/25/19.

Docket Numbers: ER20-41-000.

Applicants: Midcontinent Independent System Operator, Inc.

Description: § 205(d) Rate Filing: 2019-10-04_Attachment X revisions related to Site Control/Milestones to be effective 12/4/2019.

Filed Date: 10/4/19.

Accession Number: 20191004-5143.

Comments Due: 5 p.m. ET 10/25/19.

Docket Numbers: ER20-42-000.

Applicants: Midcontinent Independent System Operator, Inc.

Description: § 205(d) Rate Filing: 2019-10-04_Short Term Reserves filing to be effective 12/31/9998.

Filed Date: 10/4/19.

Accession Number: 20191004-5144.

Comments Due: 5 p.m. ET 10/25/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 4, 2019.
Nathaniel J. Davis, Sr.,
Deputy Secretary.

[FR Doc. 2019-22181 Filed 10-9-19; 8:45 am]

BILLING CODE 6717-01-P